DEPARTMENT OF ENERGY

Federal Energy Regulatory Commission

Combined Notice of Filings

Take notice that the Commission has received the following Natural Gas Pipeline Rate and Refund Report filings:

Filings Instituting Proceedings

Docket Numbers: RP17-23-000.

Applicants: Natural Gas Pipeline Company of America.

Description: § 4(d) Rate Filing: Negotiated Rate Macquarie Energy to be effective 11/1/2016.

Filed Date: 10/13/16.

Accession Number: 20161013-5038.

Comments Due: 5 p.m. ET 10/25/16.

Docket Numbers: RP17-24-000.

Applicants: Natural Gas Pipeline Company of America.

Description: § 4(d) Rate Filing: CNE Gas Negotiated Rate to be effective 11/1/2016.

Filed Date: 10/13/16.

Accession Number: 20161013-5041.

Comments Due: 5 p.m. ET 10/25/16.

Docket Numbers: RP17-25-000.

Applicants: Natural Gas Pipeline Company of America.

Description: § 4(d) Rate Filing: North Shore Negotiated Rate to be effective 11/1/2016.

Filed Date: 10/13/16.

Accession Number: 20161013-5165.

Comments Due: 5 p.m. ET 10/25/16.

Docket Numbers: RP17-26-000.

Applicants: Ozark Gas Transmission, L.L.C.

Description: § 4(d) Rate Filing: Munich Re Trading Negotiated Rate eff 12-1-2016 to be effective 12/1/2016.

Filed Date: 10/14/16.

Accession Number: 20161014-5033.

Comments Due: 5 p.m. ET 10/26/16.

Docket Numbers: RP17-27-000.

Applicants: Rockies Express Pipeline LLC.

Description: § 4(d) Rate Filing: Neg Rate 2016-10-14 Encana to be effective 10/14/2016.

Filed Date: 10/14/16.

Accession Number: 20161014-5148.

Comments Due: 5 p.m. ET 10/26/16.

Docket Numbers: RP17-28-000.

Applicants: American Midstream (AlaTenn), LLC.

Description: § 4(d) Rate Filing: Proposed Tariff Changes to be effective 11/14/2016.

Filed Date: 10/14/16.

Accession Number: 20161014-5177.

Comments Due: 5 p.m. ET 10/26/16.

Docket Numbers: RP17-29-000.

Applicants: AEP Generation Resources Inc., AEP Generating Company, Lightstone Generation LLC.

Description: Joint Petition for Temporary Waiver and Request for Expedited Action and a Shortened Notice Period of AEP Generation Resources Inc., et al.

Filed Date: 10/14/16.

Accession Number: 20161014-5211.

Comments Due: 5 p.m. ET 10/21/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-814-001.

Applicants: Trailblazer Pipeline Company LLC.

Description: Report Filing: Refund Report.

Filed Date: 10/14/16.

Accession Number: 20161014-5088.

Comments Due: 5 p.m. ET 10/26/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2016.
Nathaniel J. Davis, Sr.,
Deputy Secretary.

[FR Doc. 2016-25647 Filed 10-21-16; 8:45 am]

BILLING CODE 6717-01-P